DEPARTMENT OF LABOR

Employment and Training Administration

Federal-State Unemployment Compensation Program: Notice of Federal Agencies With Adequate Alternative Safeguards To Satisfy the Confidentiality Requirement of 20 CFR 603.9(d)

AGENCY: Employment and Training Administration, Labor.

ACTION: Notice of Federal agencies with adequate alternative safeguards.

SUMMARY: The Employment and Training Administration interprets Federal law requirements pertaining to the Federal-State unemployment compensation (UC) program. Section 303(a)(1), Social Security Act, as implemented at 20 CFR part 603 (71 FR 56830), generally requires States to maintain the confidentiality of UC information.

Section 603.9 of 20 CFR requires States and State UC agencies to assure that recipients of confidential UC information have certain safeguards in place before any confidential information may be disclosed. Section 603.9(d) provides that States are not required to apply these safeguard and security arrangements to a Federal agency which the Department of Labor (Department) has determined, by notice published in the Federal Register, to have in place safeguards adequate to satisfy the requirements of § 603.9.

The Department has determined that the Internal Revenue Service (IRS) has in place such safeguards for purposes of tax administration, including administration of the Federal unemployment tax and the Health Coverage Tax Credit. Specifically, Section 6103 of the Internal Revenue Code and IRS regulations on the confidentiality of tax return information (26 CFR 301.6103(a)-1 et seq.) are sufficient to protect the confidentiality of information consistent with the Department's regulation.

The Department has also determined that wage and claim information disclosed to the Department of Health and Human Services for purposes of the National Directory of New Hires is protected by a “security plan” which provides safeguards adequate to meet the requirements of the Department's regulation. Further, laws governing information in the National Directory of New Hires impose strict controls on redisclosure and disposal of information. See, e.g., 42 U.S.C. 653(i), (j), (l), and (m).

This notice is published to inform the public of the Department's determination with respect to these agencies.

FOR FURTHER INFORMATION CONTACT: Gerard Hildebrand, Chief, Division of Legislation, Office of Workforce Security, Employment and Training Administration, (202) 693-3038 (this is not a toll-free number) or 1-877-889-5627 (TTY), or by e-mail at hildebrand.gerard@dol.gov.

Dated: October 31, 2006.
Emily Stover DeRocco,
Assistant Secretary, Employment and Training Administration, Labor.

[FR Doc. E6-19271 Filed 11-14-06; 8:45 am]

BILLING CODE 4510-30-P